DEPARTMENT OF VETERANS AFFAIRS

Veterans' Advisory Committee on Rehabilitation (VACOR); Notice of Meeting

The Department of Veterans Affairs (VA) gives notice under Public Law 92-463 (Federal Advisory Committee Act) that a meeting of the Veterans' Advisory Committee on Rehabilitation (VACOR) will be held on September 1-3, 2004, at the Department of Veterans Affairs Washington Regional Office, 1722 I Street NW., Washington, DC, 20421. The meeting will be held in the second floor conference room. It will begin at 9 a.m. each day and end at 5 p.m. on September 1 and 2. The meeting will end at noon on September 3. The meeting is open to the public.

The purpose of the Committee is to provide recommendations to the Secretary of Veterans Affairs on the rehabilitation needs of veterans with disabilities and on the administration of VA's rehabilitation programs.

During the meeting, Committee members will be briefed on federal ethics issues and VA's various rehabilitation related initiatives. The Committee will receive updates on the Vocational Rehabilitation and Employment Task Force report and recommendations, Seamless Transition Initiatives, and disability and rehabilitation issues related to veterans who have Traumatic Brain Injury and Post Traumatic Stress Disorder. Additionally, the Committee will receive a briefing from the Advisory Committee on Prosthetics and Special Disabilities.

No time will be allocated at this meeting for receiving oral presentations from the public. Any member of the public wishing to attend the meeting is requested to contact Ms. Carolyn Davis, Designated Federal Officer, at (202) 273-7433. The Committee will accept written comments. Comments can be addressed to Ms. Davis at the Department of Veterans Affairs, Veterans Benefits Administration (28), 810 Vermont Avenue, NW., Washington, DC 20420, or electronically to VRECDAVI@VBA.VA.GOV. In communication with the Committee, writers must identify themselves and state the organizations, associations, or person(s) they represent.

By Direction of the Secretary.
Dated: August 2, 2004.
E. Philip Riggin,
Committee Management Officer.

[FR Doc. 04-18750 Filed 8-16-04; 8:45 am]

BILLING CODE 8320-01-M